DEPARTMENT OF COMMERCE

National Oceanic and Atmospheric Administration

15 CFR Parts 970 and 971

[Docket No. 250630-0118]

RIN 0648-BN96

Deep Seabed Mining: Revisions to Regulations for Exploration License and Commercial Recovery Permit Applications

AGENCY: Office for Coastal Management, National Ocean Service, National Oceanic Atmospheric Administration (NOAA), Department of Commerce.

ACTION: Proposed rule; request for comments.

SUMMARY: The Deep Seabed Hard Mineral Resources Act (DSHMRA or the Act) charges NOAA with the responsibility for issuing licenses for exploration and permits for commercial recovery of polymetallic nodules from the deep seabed in areas beyond national jurisdiction and promulgating regulations necessary to carry out the provisions of the Act. Some provisions of the regulations require updating to reflect significant technological and information changes since the initial regulations were promulgated in the 1980s. NOAA proposes to include a consolidated license and permit review process in a section of the regulations that was reserved for this purpose and make other changes.

DATES: Comments on this proposed rule must be received by September 5, 2025. NOAA will hold one virtual public hearing on this proposed rule on a date, time, and virtual location to be determined, which will be published in the Federal Register and posted on NOAA's Deep Seabed Mining Website.

ADDRESSES: You may submit comments on this proposed rule, identified by NOAA-NOS-2025-0108 by electronic submission described below:

Electronic Submission: Submit all public comments via the Federal e-Rulemaking Portal at https://www.regulations.gov/docket/NOAA-NOS-2025-0108 or go www.regulations.gov and enter NOAA-NOS-2025-0108 in the keyword search. Locate the document you wish to comment on from the resulting list and click on the “Submit a comment” icon on the right of that line. Comments should be addressed to Mr. Kerry Kehoe, Federal Consistency Specialist, Office for Coastal Management, NOAA. Attention: DSHMRA Proposed Rule Comments.

Mail: All comments must be submitted via electronic submission at https://www.regulations.gov/docket/NOAA-NOS-2025-0108; no written comments should be submitted by mail.

Instructions: Comments must be submitted by the above electronic method to ensure that the comments are received, documented, and considered by NOAA. Comments sent by any other method, to any other address or individual, or received after the end of the comment period, may not be considered. Comments that are not related to the proposed rule or that contain profanity, vulgarity, threats, or other inappropriate language will not be considered. All relevant comments received are a part of the public record and will generally be posted for public viewing on www.regulations.gov without change. All personal identifying information (e.g., name, address) submitted voluntarily by the sender will be publicly accessible. Do not submit confidential business information or otherwise sensitive or protected information. NOAA will accept anonymous comments (enter “N/A” in the required fields if you wish to remain anonymous).

In accordance with 5 U.S.C. 553(b)(4), a summary of this rule may be found at https://www.regulations.gov/docket/NOAA-NOS-2025-0108. A Regulatory Impact Analysis has been prepared for this proposed rule and is also available at https://www.regulations.gov/docket/NOAA-NOS-2025-0108.

FOR FURTHER INFORMATION CONTACT: Kerry Kehoe, (240) 560-8518, kerry.kehoe@noaa.gov.

SUPPLEMENTARY INFORMATION:

I. Background

DSHMRA (30 U.S.C. 1401-1473) charges the NOAA Administrator with the responsibility for issuing to U.S. citizens licenses for exploration and permits for commercial recovery of polymetallic nodules from the deep seabed in areas beyond national jurisdiction. U.S. citizens must obtain appropriate licenses and permits from NOAA before undertaking deep seabed mining.¹

¹ Mining activities within the U.S. outer continental shelf are governed by the Outer Continental Shelf Lands Act (43 U.S.C. 1331-1356c), which is administered by the Bureau of Ocean Energy Management within the Department of the Interior. The term “U.S. outer continental shelf” includes the extended continental shelf in areas adjacent to the U.S. States and is limited to the exclusive economic zone in areas adjacent to any territory of the United States.

The International Seabed Authority (ISA) regulates deep seabed mining in areas beyond national jurisdiction for countries that are parties to the United Nations Convention on the Law of the Sea (UNCLOS). The United States is a non-party to UNCLOS. Under U.S. law, NOAA may issue licenses and permits to U.S. citizens in areas beyond national jurisdiction under DSHMRA, provided all statutory and regulatory requirements are met.

On April 24, 2025, the President signed Executive Order (E.O.) 14285, “Unleashing America's Offshore Critical Minerals and Resources,” establishing policies to advance U.S. leadership in seabed mineral exploration and responsible commercial recovery.

DSHMRA, which was signed into law in 1980, requires the NOAA Administrator to promulgate regulations as necessary to carry out the provisions of the Act. 30 U.S.C. 1468. NOAA published its DSHMRA exploration license regulations (15 CFR part 970) in 1981, and its commercial recovery permit regulations (15 CFR part 971) in 1989. As NOAA reasoned when proposing the commercial recovery permit regulations in 1986, priority of right is established through the licensing process, and the regulations provide that a permittee must be the holder of a valid exploration license in order to receive a commercial recovery permit (§ 971.103). At that time, the sequential nature of the licensing and permitting processes was dictated by the developmental state of deep seabed mining technology and the information required to prepare an application for commercial recovery. However, NOAA acknowledged that once the industry matured and gained experience from activities undertaken during site-specific exploration, circumstances may evolve that might allow later entrants to capitalize on the information gained by previous explorers and lessen the need for further exploration of previously explored areas. In such cases there may be a need for a consolidated license and permit review in which permit applicants could meet exploration license requirements to establish priority of right, and permit requirements, simultaneously. In 1986, consolidation of the two procedures was premature. However, NOAA included a reserved section (§ 971.214) for potential later development. See 51 FR 26794, 26796 (July 25, 1986).

As the agency anticipated, over the past decades there has been a vast improvement in the technological capability for deep seabed mining, and the industry has obtained a substantial amount of information from deep seabed exploration activities and expressed a readiness for commercial recovery.

For example, the development of autonomous underwater vehicles (AUVs), deep sea sensors, machine learning, artificial intelligence, and other technology has substantially improved the ability to more efficiently map and explore the sea floor. These improvements in technological abilities are likely to continue or accelerate in the future.

At the same time, knowledge of the sea floor has also increased. Unlike when the regulations were first promulgated, today NOAA and many other entities operating under regimes other than DSHMRA have undertaken detailed mapping of areas of the seabed both within national boundaries and beyond national jurisdiction. In addition, industry has conducted scientific testing on polymetallic nodules, developed and tested new deep sea mining-relevant technology, and have gained scientific and technical expertise and experience in deep seabed mining exploration. This knowledge, experience, and expertise may now be leveraged by U.S. citizens operating under DSHMRA who are interested in pursuing commercial recovery of polymetallic nodules of the deep seabed in areas beyond national jurisdiction.

The need for regulatory changes were foreseen by NOAA in the 1980s when it published its proposed and final rules for the DSHMRA commercial recovery permits by reserving a section for a consolidated license and permit review process in which permit applicants could meet necessary exploration license requirements to establish priority of right and permit requirements simultaneously. See 15 CFR 971.214; 51 FR 26793, 26796. NOAA proposes to add that process as well as make changes to other obsolete sections of the license and permit regulations. This approach is consistent with DSHMRA, which does not require sequential licensing and permitting, and is in keeping with the Act's finding that “the present and future national interest of the United States requires the availability of hard mineral resources which is independent of the export policies of foreign nations,” 30 U.S.C. 1401(a)(3). The proposed changes do not alter the substantive standards to which applications would be held and include only technical changes to the regulatory text.

NOAA requests comments on this proposed rule. NOAA also requests comments on the Initial Regulatory Flexibility Analysis (IRFA), including the assessment of potential impacts to small businesses from the proposed fee amount and potential alternative fee amounts. NOAA also requests comment on the Paperwork Reduction Act (PRA) analysis, including whether this proposed collection of information is necessary for the proper performance of the functions of the agency; whether the information shall have practical utility; the accuracy of the burden estimate; ways to enhance the quality, use, and clarity of the information to be collected; and ways to minimize the burden of the collection of information, including through the use of automated collection techniques or other forms of information technology.

II. Explanation of Proposed Changes to the DSHMRA Regulations

§ 970.200(b) Place, form and copies. NOAA proposes to revise paragraph (b) to remove the requirement for mailing 30 hard copies, replace it with a requirement to submit electronically only, and remove addresses that are no longer valid. NOAA also proposes to add a requirement that applications must be formatted according to regulatory sections and topics. Formatting an application by the regulatory sections and topics will help ensure that an application contains the required information and will allow NOAA to complete its review of an application in an expeditious manner.

§ 970.209 Substantial compliance with application requirements. NOAA proposes to revise § 970.209 by making clarifying changes regarding substantial compliance and to reference the proposed § 971.214 consolidated license and permit procedure. While NOAA is not proposing changes regarding determining priority of right and payment of the administrative fee, NOAA notes that the payment of the administrative fee does not determine priority of right; instead, the submission date of the application that is found to be in substantial compliance determines priority of right under the terms of § 970.200(e).

§ 970.210 Reasonable time for full compliance. NOAA proposes to revise § 970.210 to reference the proposed § 971.214 consolidated license and permit procedure.

§ 971.200(b) Place, form and copies. NOAA proposes to revise paragraph (b) to remove the requirement for mailing 25 hard copies, replace it with a requirement to submit electronically, and remove addresses that are no longer valid. NOAA also proposes to add a sentence that applications must be formatted according to regulatory sections and topics. Formatting an application by the regulatory sections and topics will help ensure that an application contains the required information and will allow NOAA to complete its review of an application in an expeditious manner.

§ 971.214 Consolidated license and permit procedures. NOAA proposes to use this currently reserved section to add a process whereby U.S. citizens who are qualified for these consolidated procedures may concurrently apply for an exploration license and a commercial recovery permit. A U.S. citizen would be qualified to use these consolidated procedures if it can demonstrate that the applicant possesses the scientific, technical, and financial resources to pursue commercial recovery activities in an expeditious and diligent manner.

Under this proposed consolidated license and permit process, a qualified applicant would not submit two, sequential applications (one for the exploration license and one for the commercial recovery permit) but, rather, would submit one application for both the exploration license and commercial recovery permit at the same time that would meet the requirements of the new proposed § 970.214. The Administrator would then conduct a consolidated review through one process, not two separate reviews, and, where necessary, publish separate proposals to issue a license and permit; terms, conditions, and restrictions; and licenses and permits.² The Administrator would provide an opportunity for public comment and could decide, to the extent practicable, hold a public hearing on the consolidated license and permit application. NOAA expects that the Administrator would likely prepare a single environmental impact statement (EIS) that would evaluate the impacts of both exploration activities and commercial recovery activities as opposed to separate EISs. However, there may be situations in which two EISs are appropriate. See 30 U.S.C. 1419(d).

² As under the existing regulations, and pursuant to DSHMRA, priority of right shall be based on “the chronological order in which license applications which are in substantial compliance with the requirements established under subsection (a)(2) of this section are filed with the Administrator.” 30 U.S.C. 1413(b).

The Administrator would issue the exploration license and commercial recovery permit at the same time thereby confirming the priority of right required that would otherwise be established through the licensing process and the ability of the permit holder to proceed to commercial recovery. That priority of right continues through the commercial recovery permit. The length of the terms for an exploration license (10 years) and commercial recovery permit (20 years) would not change nor would the ability to extend these terms as described in the regulations. Once the Administrator would issue the license and permit under the consolidated process, the applicant could proceed with commercial recovery when it is ready;—this could be any time after the Administrator issues the license and permit. If an applicant determined that it would no longer need to conduct further exploration, it could decide to not extend its exploration license.

The fee for the consolidated application has been set at $350,000, which reflects inflation that has occurred in the time since the fee was set at $100,000. As discussed below in the Regulatory Flexibility Analysis section, NOAA is seeking public comment on alternatives to the consolidated license and permit process fee for consideration as well as public comment on the Regulatory Impact Analysis.

§ 971.802 Public disclosure of documents received by NOAA. NOAA proposes to revise § 971.802 to remove outdated procedures and cross-references for handling records and instead replace the section with a cross-reference to the current regulations which govern public disclosure of documents received by NOAA. The proposed changes would revise paragraph (a), remove paragraphs (b) through (e), and redesignate paragraphs (f) and (g) as paragraphs (b) and (c). The text of the redesignated paragraphs (b) and (c) remain unchanged from the current paragraphs (f) and (g).

III. Miscellaneous Rulemaking Requirements

Executive Order 12372: Intergovernmental Review

NOAA has concluded that this regulatory action does not affect any state's intergovernmental review process established under Executive Order 12372.

Executive Order 13132: Federalism Assessment

NOAA has concluded that this regulatory action is consistent with federalism principles, criteria, and requirements stated in Executive Order 13132. The proposed changes for the DSHMRA regulations would facilitate the submission of exploration license and commercial recovery permit applications as well as NOAA and interagency review of the applications. DSHMRA and these proposed regulatory changes do not have substantial direct effects on the States, on the relationship between the national government and the States, or on the distribution of power and responsibilities among the various levels of government. Because DSHMRA and these regulations do not affect the principles of federalism, no federalism assessment need be prepared.

Executive Order 12866: Regulatory Planning and Review

This proposed rule is economically significant for purposes of Executive Order 12866, Section 3(f)(1), because it is expected to have an annual effect on the economy of $100 million or more.

Executive Order 14192: Unleashing Prosperity Through Deregulation

This proposed rule, if finalized as proposed, is expected to be an E.O. 14192 deregulatory action.

Executive Order 13211: Actions Concerning Regulations That Significantly Affect Energy Supply, Distribution, or Use

This regulatory action and the proposed changes, if they were to become a final rule, is not a “significant energy action” for purposes of Executive Order 13211. Therefore, NOAA has not prepared a statement of energy effects. The DSHMRA regulations and the proposed revisions would not result in a “significant adverse effect on the supply, distribution, or use of energy.”

Regulatory Flexibility Act

The Regulatory Flexibility Act (RFA; 5 U.S.C. 601 et seq.) requires Federal agencies to prepare an analysis of a rule's impact on small businesses whenever the agency is required to publish a rulemaking, unless the agency certifies, pursuant to 5 U.S.C. 605, that the action will not have significant economic impact on a substantial number of small businesses. The RFA requires agencies to consider, but not necessarily minimize, the effects of rules on small businesses. The goal of the RFA is to inform the agency and public of expected economic effects of the action and to ensure the agency considers alternatives that minimize the expected economic effects on small businesses while meeting applicable goals and objectives.

NOAA developed the following Initial Regulatory Flexibility Analysis (IRFA) discussing the impacts of this proposed rule on small businesses.

Summary of Findings

NOAA has determined that this rule would not result in a significant cost impact on a substantial number of small businesses under section 605(b) of the Regulatory Flexibility Act. The proposed rule would result in a cost savings for the affected businesses.

Based on the information from this analysis we found that:

• There are an estimated seven U.S. businesses that would be affected by this proposed rule.

• For these seven businesses, we estimate that 57% (or four businesses) are considered small based on the Small Business Administration size standards.

• Although we estimate that seven businesses would be affected by this proposed rule, we recognize that the number of applicants could be even smaller since this is a new industry and there are specific technological, engineering, capital and support services required to undertake seabed mining.

Preliminary Initial Regulatory Flexibility Analysis

The RFA establishes rulemaking that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.

Description of the Reasons for Agency Action

Currently, the DSHMRA regulations require a sequential process. Applicants must first obtain an exploration license before a commercial recovery permit application can be applied for. While this sequential approach was initially appropriate due to the nascent stage of deep seabed mining technology and the data needed for a commercial recovery application, a consolidated review was always envisioned for a more mature industry.

Statement of Legal Basis and Objectives for the Rule

The statutory authority for NOAA to prescribe, change, revise, or amend the affected regulations under 15 CFR parts 970 and 971 is provided under DSHMRA (30 U.S.C. 1401-1473). DSHMRA, which was signed into law in 1980, requires the NOAA Administrator to promulgate regulations as necessary to carry out the provisions of the Act. 30 U.S.C. 1468. NOAA published its DSHMRA exploration license regulations (15 CFR part 970) in 1981, and its commercial recovery permit regulations (15 CFR part 971) in 1989.

The objective of this rule is to provide the option for a consolidated application streamlining the process for qualified applicants, in accordance to President signed Executive Order (E.O.) 14285, “Unleashing America's Offshore Critical Minerals and Resources,” establishing policies to advance U.S. leadership in seabed mineral exploration and responsible commercial recovery.

Description of Recordkeeping and Other Compliance Requirements

This proposed rule would reduce the current requirements for reporting, recordkeeping, and other paperwork requirements for affected businesses by transitioning to electronic delivery and offering an optional consolidated process to streamline exploration licensing and commercial recovery permit acquisitions. These changes and their impacts are described in more depth in Chapters 4 and 5 of the RIA.

Overlapping, Duplicative, or Conflicting Federal Rules

The requirements of this proposed rule would not duplicate, overlap, or conflict with any other Federal requirement.

Compliance Cost Savings

There are cost efficiencies in the transition from print to digital for submission of the application and also efficiencies in the consolidation of the permitting process rather than completing both the exploratory license and commercial recovery permit processes. Monetized savings are found in the preparation of one report rather than two and the need to only attend one adjudicatory hearing rather than two. The applying business would also see a savings of 100 days through only one review process rather than two.

The analysis assumes two applicants for exploratory permits, one applicant for a commercial recovery permit, and one applicant for a consolidated permit. Over ten years from 2026 to 2035, the total net benefits (USD) of the proposed rule is $137,000 undiscounted, $120,000 discounted at three percent and $103,000 discounted at seven percent. For an individual small business considering the consolidated application over the separate and sequential exploratory and recovery permit processes, they would see a cost savings from transitioning from paper to digital application of $5,733 and, further, from time savings of 100 days to start the recovery process. For a business electing the sequential process of exploratory and recovery permits, the benefits of transitioning from paper to digital application submissions would be $5,196. Other benefits from the standardization of the exploratory and commercial recovery applications were not quantified.

Description of the Potential Number of Small Businesses

We used the North American Industry Classification System (NAICS) codes of the current businesses that have applied or expressed interest to start our research for the identification of the potential small businesses affected by this proposed rule. We identified seven businesses likely to be affected by this proposed rule. We researched and compiled the employee size and revenue data for all seven businesses. We used their available name and address information to research public and proprietary databases for business type (subsidiary or parent business), primary line of business, employee size and revenue. Our preferred source, deemed to be most authoritative, came directly from prospective DSHMRA applicants. In cases where the prospective DSHMRA applicant did not provide this information, our secondary preferred source came from Dun & Bradstreet—which provides a comprehensive database of business records for over 600 million organizations internationally. We matched this information to the SBA's “Table of Small Business Size Standards” to determine if a business is small in NAICS 212290—`All Other Metal Ore Mining,' which best describes deep sea mining. This industry has an SBA size standard of 1,250 employees. Based on the information available we were able to classify four out of seven businesses potentially impacted by this proposed rule as small businesses. In addition to these directly impacted small businesses, businesses in several other industries may be indirectly impacted and are included in the Table below.

Table—NAICS Categories for Small Businesses
NAICS code | Description | Number of small businesses by industry * | Small business share of industry * (%) | Estimated revenue per small business * | SBA standard | Number of small businesses affected by the rule ***
212290 | All Other Metal Ore Mining | 30 | 88 | $40.5 M | 1,250 Employees | 4
213114 | Support Activities for Metal Mining | 158 | 90 | 2.3 M | 41.00 Mil |
213115 | Support Activities for Nonmetallic Minerals (except Fuels) Mining | 175 | 90 | 2.7 M | 20.50 Mil |
523110 | Investment Banking and Securities Intermediation | 1,861 | 91 | 2.6 M | 47.00 Mil |
541620 | Environmental Consulting Services | 8,119 | 97 | 1.2 M | 19.00 Mil |
541690 | Other Scientific and Technical Consulting Services | 25,810 | 98 | 0.8 M | 19.00 Mil |
* Source: U.S. Census Bureau Statistics of U.S. Businesses.
** Source: SBA Office of Size Standards.
*** Source: NOAA records. The number of small businesses is calculated based on business information received from potential DSHMRA applicants and SBA Size Standards by 6-digit NAICS code. In some cases the SBA Size Standard is based on a business's total annual receipts (gross income plus cost of goods sold). Due to a lack of data on businesses” annual receipts it was not possible to determine whether they met the standard for a small business.

Cost Impact Analysis

This proposed rule will result in benefits (i.e., compliance cost savings) to the small businesses as presented in the Compliance Cost Savings section above. To assess the impact to small businesses, we calculated the benefits as a percentage of businesses' revenues. Annual revenue figures could only be found for two of the four applicants that we determined to be small businesses ³ and showed an interest in applying for a deep seabed mining license and/or commercial recovery permit. This was primarily due to the majority of interested businesses being newly incorporated in 2025. Using business reports and financial records, we found that the small business benefits of the proposed rule would have greater than a 1 percent of positive impact on annual revenues.

³ Due to limited data on business revenue and/or employee totals, we could not determine whether two potential DSM applicants were small businesses. Hence, these businesses were not included in this analysis.

Alternatives Considered

The proposed requirements will bring benefits (i.e., compliance cost savings) to small businesses. NOAA's ability under the statute to develop alternatives to the license and permit processes are limited, as DSHMRA states that an application for an exploration license establishes priority of right to an area. Therefore, NOAA could not, through regulation, remove the requirement for an exploration license. NOAA did consider amounts for the administrative fee for the consolidated license and permit process. Under existing regulations, the fee for an exploration license application is $100,000, and the fee for a commercial recovery permit application would be another $100,000. NOAA is proposing a $350,000 fee for the consolidated license and permit application, which reflects inflation that has occurred in the time since the fee was set at $100,000. Additionally, as required in the statute (30 U.S.C. 1414) and described in the regulations (15 CFR 970.208 and 971.208), an applicant must pay to the Administrator a reasonable administrative fee, and the amount of the administrative fee shall reflect the reasonable administrative costs incurred in reviewing and processing the application. Therefore, NOAA adjusts the fee up or down depending on the administrative costs incurred. NOAA welcomes public comment on alternatives to the consolidated license and permit process fee for consideration.

Paperwork Reduction Act

This proposed rule contains a collection-of-information requirement subject to review and approval by the Office of Management and Budget (OMB) under the Paperwork Reduction Act (PRA), 44 U.S.C. 3501 et seq. This proposed rule seeks to extend and revise the existing requirements for the collection of information 0648-0145, currently titled “Deep Seabed Mining Regulations for Exploration Licenses” and now proposed to be renamed “Deep Seabed Mining Regulations.” In accordance with section 3507(d) of the PRA, the information collection requirements included in this proposed rule have been submitted for approval to OMB.

This proposed rule would permit concurrent submission of applications for exploration licenses and commercial recovery permits. Anyone seeking an exploration license or commercial recovery permit must submit certain information that allows NOAA to ensure the applicant meets the standards of the Act. Licensees and permittees are required to conduct monitoring and make reports, including annual reports regarding the licensee's or permittee's conformance to the schedule of activities and expenditures contained in the license or permit, and they may request revisions, transfers, or extensions of licenses or permits. Information required for the issuance, revision, transfer, and extension of licenses and permits ensures that the Administrator is able to make determinations on the findings set forth in 30 U.S.C. 1413(c) and 30 U.S.C. 1415(a) and the factors set forth in the DSHMRA regulations. These findings and factors include that applicants have identified areas of interest for deep seabed hard mineral exploration and production; developed plans for those activities; have the financial resources available to conduct proposed activity; and have considered the effects of the activity on the natural and human environment. This information is used to determine whether licenses and permits should be issued, revised, transferred, or extended. The licenses and permits are subject to annual reporting requirements and may be subject to extension requests (every five years for exploration licenses, or every twenty years for commercial recovery permits).

NOAA estimates that the public reporting burden for applicants taking advantage of the consolidated exploration license and commercial recovery permit process would be 1,125 hours per applicant; with an estimated one applicant per year using the consolidated process, the total annual burden hours for this process would be 1,125 hours. This estimate takes into account the one-time initial cost (in hours) per entity to prepare and submit to NOAA the consolidated license and permit application. NOAA estimates that the public reporting burden for applicants submitting an exploration license application alone would be 750 hours per applicant, with two applicants anticipated per year resulting in total annual burden hours of 1,500. A commercial recovery permit application alone would be 750 hours, with one anticipated commercial recovery permit applicant per year for a total of 750 anticipated annual burden hours. This estimate takes into account the one-time initial cost (in hours) per entity to prepare and submit to NOAA either a license application or a permit application.

NOAA anticipates a total of two annual exploration license applications, one annual commercial recovery permit application, and one annual consolidated application for both an exploration license and a commercial recovery permit. NOAA has sought information from potential respondents as to the time estimates of preparing applications. One potential respondent estimated a total of 3,600 hours to prepare three applications, resulting in an estimated 1,200 hours per application. Another respondent estimated a total of 600 hours to prepare two applications, resulting in an estimated 300 hours per application. Averaging the estimated time burden between these two potential respondents results in an estimated 750 hours per application. NOAA has used this hour estimate for the time burden of preparing a single license or permit application. For a consolidated exploration license and commercial recovery permit application, this is a new proposed process, but NOAA provides an educated guess that the estimated time burden would be 1.5 times that of a single application, due to efficiencies gained in reducing duplication of effort. As such, NOAA estimates that preparation of a consolidated application would take 1,125 hours. NOAA will update this information in future renewals of this collection based on the actual number of license applications, permit applications, and consolidated applications received during the collection approval cycle, and on further information.

NOAA estimates that there may be one objection to license or permit terms, conditions, or restrictions received per year. NOAA anticipates that the respondent would spend 250 hours per objection for an estimated total annual burden of 250 hours.

Every subsequent year, NOAA anticipates that the total annual cost burden (in hours) for applicable entities to implement the rule by filing annual reports would be 20 hours per report, including the time for reviewing instructions, searching existing data sources, gathering and maintaining the data needed, and completing and reviewing the collection of information. The estimated total burden to produce an annual report will vary according to the amount of activities by the license and/or permit holder and is expected to average 20 hours based on previous reports submitted to NOAA. With 5 anticipated annual reports per year, that would result in a total of 100 annual burden hours for annual reports.

The estimated total burden to prepare a license or permit extension request which includes an exploration plan or commercial recovery plan is 250 hours. A license is issued for a period of ten years. Extension requests may be submitted every five years for exploration licenses, or may be submitted after ten or twenty years (depending on circumstances) for commercial recovery permits. NOAA estimates that the annualized burden hours of extension requests is 50 annualized hours for exploration license extension requests and 25 annualized hours for commercial recovery permit extension requests.

The estimated total burden to prepare a license or permit revision is 40 hours. Based on historical data, NOAA expects to receive 2 revision requests in a given year for a total of 80 annual burden hours.

The estimated total burden to prepare a license or permit transfer request is 750 hours. Based on historical data, NOAA expects to receive 1 transfer request every 10 years. NOAA estimates that the annualized burden of a transfer request is 75 hours.

NOAA has made an educated estimate, based on its experience with processing other types of permit or license hearings or appeals, that the applicant may spend 200 hours of time preparing submittals for an adjudicatory hearing if such hearing is requested or necessary. NOAA anticipates that there may be 1 adjudicatory hearing per year for a total of 200 annual burden hours.

In sum, the estimated annual public reporting burden hours for this collection of information is 4,155 hours. The estimated total annual wage burden costs would be $477,825 based on the Bureau of Labor Statistics Occupational Outlook Handbook mean annual wage estimate for Chief Executives (11-1011) at $239,200 (https://www.bls.gov/ooh/management/top-executives.htm#tab-5). The hourly wage rate was calculated by dividing the mean annual salary by 2,080 hours for an hourly wage rate of $115.

NOAA anticipates that the annual cost burden for applicable entities taking advantage of the consolidated exploration license and commercial recovery permit process is $350,000 for the fee for the consolidated application which has been proposed to be set at $350,000, which reflects inflation since the fee was initially set at $100,000. With one anticipated consolidated application per year, this would be a total estimated annual cost to respondents of $350,000 for the consolidated permit process.

NOAA anticipates that the annual cost burden for applicants submitting an exploration license application alone or a commercial recovery permit application alone would be $100,000 for the application fee. With an anticipated two exploration license applications and one commercial recovery permit application per year, this would be a total estimated annual cost to respondents of $300,000 for the exploration license and commercial recovery permit applications. NOAA anticipates that there may be one adjudicatory hearing per year. It is anticipated that a respondent will hire an attorney for any adjudicatory hearings. The cost anticipates the attorney will spend approximately 200 hours of work submitting evidence, providing oral argument, and submitting written arguments if desired. The mean hourly wage rate for a lawyer (BLS occupational code 23-1011, https://data.bls.gov/oesprofile/) is $87.86. A multiplier of 1.5 was used to calculate the loaded salary/anticipated billing rate, for an hourly rate of $131.79. 200 hours × $131.79/hr = $26,358.

In sum, the total estimated annual cost burden to respondents or record keepers is $676,358. This total estimated annual cost burden does not include the cost of wage burden hours described above; the total estimated wage burden cost is $477,825 as described above.

These hour and cost estimates are subject to variations among responsible entities depending on the size of the area being explored or mined and the extent of operations. As NOAA gains experience with the regulatory program, burden estimates will be revised.

The estimated annual federal salary cost to the U.S. Government is $2,222,226. These estimates are based on base salaries calculated using the General Schedule (GS) pay tables (https://www.opm.gov/policy-data-oversight/pay-leave/salaries-wages/salary-tables/pdf/2025/RUS.pdf) for the Rest of U.S. location. The Rest of U.S. location was used since NOAA employees are geographically dispersed. A multiplier of 1.5 was used to calculate the loaded salary. The estimated number of federal employees needed to process the information collection for the applications and other reporting requirements are 20 employees, with ten employees at a salary level of GS-15, five employees at a salary level of GS-14, and five employees at a salary level of GS-13.

NOAA anticipates travel may be required for public hearings, with an estimated annual cost of $48,000 based on an estimated four trips per year for four staff, costing $3,000 each.

NOAA anticipates there may be one adjudicatory hearing per year. The base salary cost for the Administrative Law Judge for the hearing was calculated using the GS pay tables (https://www.opm.gov/policy-data-oversight/pay-leave/salaries-wages/salary-tables/pdf/2025/ALJ.pdf) and using a multiplier of 1.5 to obtain the loaded salary for an estimated cost of $6,023.

In sum, the total estimated annual cost to the U.S. Government is $2,276,249.

Public comment is sought regarding: whether this proposed collection of information is necessary for the proper performance of the functions of the agency, including whether the information shall have practical utility; the accuracy of the burden estimate; ways to enhance the quality, use, and clarity of the information to be collected; and ways to minimize the burden of the collection of information, including through the use of automated collection techniques or other forms of information technology. Submit comments on these or any other aspects of the collection of information within 60 days of publication of this notice at https://www.reginfo.gov/public/do/PRAMain.

Notwithstanding any other provision of the law, no person is required to respond to, nor shall any person be subject to a penalty for failure to comply with, a collection of information subject to the requirements of the PRA, unless that collection of information displays a currently valid OMB Control Number.

National Environmental Policy Act

NOAA is analyzing this proposed rule in accordance with the National Environmental Policy Act (NEPA, 42 U.S.C. 4321 et seq.), the NOAA Administrative Order 216-6A, and the NOAA Companion Manual, “Policy and Procedures for Compliance with the National Environmental Policy Act and Related Authorities” (effective January 13, 2017). This proposed rule would establish a consolidated permit application process without changing the substantive standards to which applications will be held. NOAA believes that because this rulemaking includes only technical changes to the regulatory text, it falls within a category of actions that NOAA has found to have no significant individual or cumulative effect on the quality of the human environment and therefore may be excluded from the requirement to prepare an environmental assessment or an environmental impact statement. Specifically, the proposed rule is consistent with the criteria of categorical exclusion reference number G7 in Appendix E of the NOAA Companion Manual, Preparation of policy directives, rules, regulations, and guidelines of an administrative, financial, legal, technical, or procedural nature, or for which the environmental effects are too broad, speculative or conjectural to lend themselves to meaningful analysis and will be subject later to the NEPA process, either collectively or on a case-by-case basis. NOAA has not identified any extraordinary circumstances that would preclude this categorical exclusion. Furthermore, as required by DSHMRA (30 U.S.C. 1419(d)), NOAA will prepare an environmental impact statement before issuing any license or permit. Therefore, NOAA has preliminarily determined that this proposed rule would not result in significant effects to the human environment and qualifies to be categorically excluded from the need to prepare a further NEPA analysis. NOAA will review all comments submitted in response to this notice of proposed rulemaking prior to concluding our NEPA process and finalizing this proposed rule.

List of Subjects in 15 CFR Parts 970 and 971

Administrative practice and procedure, Marine resources, Mineral resources.

Laura Grimm,
Chief of Staff, Performing the Duties of Under Secretary of Commerce for Oceans and Atmosphere and NOAA Administrator, National Oceanic and Atmospheric Administration.

For the reasons stated in the preamble, NOAA proposes to revise 15 CFR parts 970 and 971 as follows:

PARTS 970 AND 971—DEEP SEABED MINING REGULATIONS FOR EXPLORATION LICENSES AND COMMERCIAL RECOVERY PERMITS

1. The authority citation for parts 970 and 971 continues to read as follows:

Authority: 30 U.S.C. 1401 et seq.

2. Amend § 970.200 by revising paragraph (b) as follows:

§ 970.200 General.

* * * * *

(b) Place, form and copies. Applications for the issuance or transfer of exploration licenses must be submitted in electronic format, verified and signed by an authorized officer or other authorized representative of the applicant, to an email address or website as specified by NOAA. The application format shall be organized according to the specific regulatory topics and sections.

* * * * *

3. Amend § 970.209 by revising § 970.209 to read as follows:

§ 970.209 Substantial compliance with application requirements.

(a) Priority of right for the issuance of licenses to new entrants will be established on the basis of the chronological order in which exploration license applications filed under Part 970, Subpart A and consolidated license and permit applications filed under § 971.214 that are in substantial compliance are received by the Administrator.

(b) In order for an application to be in substantial compliance, it must include information specifically identifiable with and materially responsive to the requirements contained in, as applicable, §§ 970.201 through 970.208 or 971.214. A determination on substantial compliance relates only to whether the application contains the required information and does not constitute a determination on certification of the application, or on issuance or transfer of a license.

(c) The Administrator will notify the applicant in writing whether the application is in substantial compliance within 30 days of receipt of an application. The notice will identify, if applicable, in what respects the application is not in either full or substantial compliance. If the application is in substantial but not full compliance, the notice will specify the information which the applicant must submit in order to bring it into full compliance, and why the additional information is necessary.

* * * * *

4. Amend § 970.210 by revising § 970.210 to read as follows:

§ 970.210 Reasonable time for full compliance.

Priority of right will not be lost in case of any application filed which is in substantial but not full compliance, as specified in § 970.209, if the Administrator determines that the applicant, within 60 days after issuance to the applicant by the Administrator of written notice that the application is in substantial but not full compliance, has brought the application into full compliance with the requirements, as applicable, of §§ 970.201 through 970.208 or 971.214.

5. Amend § 971.200 by revising paragraph (b) to read as follows:

§ 971.200 General.

* * * * *

(b) Place, form and copies. An application for the issuance or transfer of a commercial recovery permit must be submitted in electronic format, verified and signed by an authorized officer or other authorized representative of the applicant, to an email address or website as specified by NOAA. The application format shall be organized according to the specific regulatory topics and sections.

* * * * *

6. Amend § 971.214 by revising § 971.214 to read as follows:

§ 971.214 Consolidated license and permit procedures.

(a) General. Consolidated license and permit shall follow the requirements in this section and not the requirements set forth in §§ 970.200 through 970.208, 970.400 through 970.408, 971.200 through 971.210, and 971.300 through 971.303. All other requirements set forth in 15 CFR parts 970 and 971 shall apply to a consolidated license and permit application and all the sections in parts 970 and 971, except for § 971.214, shall continue to apply to individual license or permit applications.

(b) Who may apply; how. Any United States citizen who can demonstrate that he, she, or it possesses the scientific, technical, and financial resources to pursue commercial recovery activities in an expeditious and diligent manner may apply to the Administrator for issuance or transfer of an exploration license and a commercial recovery permit using the “consolidated license and permit procedures” as set out in this section. Under these consolidated procedures, a qualified applicant may submit a single consolidated application that seeks both an exploration license and a commercial recovery permit. The Administrator will issue a separate license and permit to the applicant if the application complies with the Act and regulations. The Administrator shall consolidate public hearings and other proceedings for the concurrent processing of the issue or transfer of the license or permit to the extent practicable. The Administrator may also prepare a single environmental impact statement that evaluates the impacts of both exploration activities and commercial recovery activities. The Administrator shall issue separate proposals to issue or transfer the license or permit; terms, conditions, and restrictions for the license or permit; and licenses and permits.

(c) Application and form of applications. The application shall contain the items specified in this section. Each portion of the application shall identify the requirements of this section to which it responds. An applicant shall request to have any information in its application be kept confidential at the time of submitting the information. An applicant shall include information previously submitted that the applicant will rely on in the consolidated license and permit application. Applications shall be submitted electronically as specified by the Administrator.

(d) Contents. The application shall contain information sufficient to enable the Administrator to make the findings set forth in 30 U.S.C. 1415(a) and 15 CFR 970.500(c), 971.214(f), and 971.400(c), including the following items.

(1) Past exploration description and affirmation. A description of exploration activities undertaken prior to application submission by the applicant, the proposed transferor, or other entities that demonstrate that the applicant will be able to proceed to commercial recovery with limited or no additional exploration.

(i) This shall contain information on when the work was performed, what entity performed the work, the applicant's relationship to the entity performing the work, and the applicant's access to the information collected as a result, including the following items:

(A) Survey cruises to determine the location and abundance of nodules as well as the sea floor configuration, ocean currents and other physical characteristics of potential commercial recovery sites;

(B) Assaying nodules to determine their metal contents;

(C) Designing and testing system components onshore and at sea;

(D) Designing and testing mining systems that simulate commercial recovery;

(E) Designing and testing processing systems to prove concepts and designing and testing systems that simulate commercial processing; and

(F) Evaluating the continued feasibility of commercial scale operations based on technical, economic, legal, and environmental considerations.

(ii) An explanation for why the applicant qualifies to use the consolidated license and permit procedures in this section, including demonstrating that the need for further exploration activities in the proposed license and permit area is minimal or not needed and the applicant possesses the scientific, technical, and financial resources to pursue commercial recovery activities in an expeditious and diligent manner.

(iii) Documentation of any agreements, contracts, or partnerships of other businesses or entities that the applicant will rely on for the various parts of any exploration or commercial recovery operations or financing.

(2) Statement of financial resources. Information sufficient to demonstrate that the applicant is capable of committing or raising sufficient resources to cover the estimated costs of the exploration program contained in the exploration plan and the commercial recovery program contained in the commercial recovery plan, including general estimated costs of the exploration and commercial recovery plans. Other information shall include, to the extent it is available, the most recent audited financial statement (for publicly-held companies, the most recent annual report and Form 10-K filed with the Securities and Exchange Commission) for the applicant and those entities upon which the applicant will rely to finance the exploration activities and the credit and bond rating of the applicant and such financing entities.

(3) Statement of technological experience and capabilities. Information sufficient to demonstrate that the applicant has the technological capability to carry out the exploration program contained in the exploration plan and the commercial recovery program contained in the commercial recovery plan. In particular, the information submitted pursuant to this section shall describe the equipment, knowledge, and skills the applicant possesses or to which it can demonstrate access, including:

(i) A description of the exploration equipment to be used by the applicant in carrying out the exploration program;

(ii) A description of the environmental monitoring equipment to be used by the applicant in monitoring the environmental effects of the exploration program;

(iii) A description of the technology, equipment, and methods to be used by the applicant in carrying out each step in the mining process, including nodule collection, retrieval, transfer to ship, environmental monitoring, transport to processing facilities, nodule processing, waste disposal and compliance with applicable water quality standards. The description shall include:

(A) An analysis of the performance of experimental systems, sub-systems, or analogous machinery;

(B) The rationale for extrapolating from test results to commercial mining;

(C) Anticipated system reliability within the context of anticipated production time lost through equipment failure; and

(D) A functional description of the types of technical qualifications the applicant will require for persons operating its equipment.

(4) Exploration plan. A description of the applicant's proposed exploration activities including: sufficient information for the Administrator to make the necessary determinations pertaining to the certification and issuance of a license and to the development and enforcement of the terms, conditions and restrictions (TCRs) for a license; and the following specific items:

(i) A description of the activities proposed to be carried out during the period of the license;

(ii) A description of the area that will be explored, including its delineation according to § 970.601;

(iii) The intended exploration schedule addressing which of the following exploration activities the applicant intends to conduct after the issuance of the license and when each of these proposed activities will occur:

(A) Conducting survey cruises to determine the location and abundance of nodules as well as the sea floor configuration, ocean currents and other physical characteristics of potential commercial recovery sites;

(B) Assaying nodules to determine their metal contents;

(C) Designing and testing system components onshore and at sea;

(D) Designing and testing mining systems which simulate commercial recovery;

(E) Designing and testing processing systems to prove concepts and designing and testing systems which simulate commercial processing; and

(F) Evaluating the continued feasibility of commercial scale operations based on technical, economic, legal, political and environmental considerations;

(iv) For exploration activities that the applicant intends to conduct under an exploration license:

(A) A description of the methods to determine the location, abundance, and quality (i.e., assay) of nodules and to measure physical conditions in the area that will affect nodule recovery system design and operations (e.g., seafloor topography, seafloor geotechnic properties, and currents);

(B) A general description of the recovery and processing technology related to the proposed license and of any planned testing and evaluation of such technology addressing such factors as nodule collection technique, seafloor sediment rejection subsystem, mineship nodule separation scheme, pumping method, anticipated equipment test areas, and details on the testing plan; and

(C) Measures to protect the environment and to monitor the effectiveness of environmental safeguards and monitoring systems. These measures must take into account the provisions in §§ 970.506, 970.518, 970.522 and subpart G of this part.

(5) Commercial Recovery Plan. Description of the applicant's projected commercial recovery activities for the twenty-year period to be covered by the proposed permit, including: sufficient information for the Administrator to make the necessary determinations pertaining to the certification and issuance of a permit and to the development and enforcement of the TCRs for a permit; and the following specific items:

(i) A description of the activities proposed to be carried out during the period of the permit;

(ii) The intended schedule of commercial recovery (see “Diligent commercial recovery,” § 971.503);

(iii) Environmental safeguards and monitoring systems, which must take into account requirements under subpart F of this part, including best available technologies (BAT) (§ 971.604) and monitoring (§ 971.603);

(iv) Details of the area or areas proposed for commercial recovery, which meet requirements for diligence (§ 971.503) and conservation of resources pursuant to subpart E (especially § 971.502);

(v) A resource assessment of the area or areas proposed for commercial recovery which meets the requirements for resource assessment and logical mining unit (§ 971.501);

(vi) A description of the methods and technology to be used for commercial recovery and processing (see § 971.202(b)(1)); and

(vii) The methods to be used for disposal of wastes from recovery and processing, including the areas for disposal and identification of any toxic substances in wastes.

(6) Environmental and use conflict analysis. Sufficient marine environmental information for the Administrator to prepare an environmental impact statement (EIS) on the proposed activities in the consolidated license and permit application and to determine the appropriate permit TCRs, including:

(i) Physical, chemical and biological information describing the environmental characteristics of the relevant area, including relevant environmental information obtained during past exploration activities;

(ii) A monitoring plan for any proposed but not yet completed exploration activities, including test mining, and any at-sea commercial recovery activities that meets the objectives and requirements of § 971.603;

(iii) Information known to the applicant on other uses of the proposed mining area to support the Administrator's determination regarding potential use conflicts between commercial mining activities and those activities of other nations or of other U.S. citizens and to assist the Administrator in making determinations related to potential use conflicts pursuant to §§ 970.503, 970.505, 970.520, 971.403, 971.405, and 971.421; and

(iv) Onshore information including the location and operation of nodule processing facilities in accordance with § 971.606.

The Administrator may require the submission of additional data in the event the Administrator determines that the basis for a suitable EIS or a determination of appropriate TCRs is not available.

(7) Vessel safety and documentation. In order to provide a basis for the necessary determinations with respect to the safety of life and property at sea, the application shall contain the following information for vessels used for the purposes covered by the application, except for vessels under 300 gross tons which are engaged in oceanographic research:

(i) U.S. flag vessel. A demonstration or affirmation that any U.S. flag vessel used in exploration activities will possess a current valid Coast Guard Certificate of Inspection (COI). All mining ships and at least one of the transport ships used by each permittee must be documented under the laws of the United States. To the extent that the applicant knows which U.S. flag vessels it will use, it shall include with its application copies of the vessels' current valid Coast Guard COIs.

(ii) Foreign flag vessels. To the extent that the applicant knows which foreign flag vessel(s) it will be using for other purposes, the application shall include evidence that:

(A) Any foreign flag vessel whose flag state is party to the International Convention for the Safety of Life at Sea, 1974 (SOLAS 74) possesses current valid SOLAS 74 certificates;

(B) Any foreign flag vessel whose flag state is not party to SOLAS 74 but is party to the International Convention for the Safety of Life at Sea, 1960 (SOLAS 60) possesses current valid SOLAS 60 certificates; and

(C) Any foreign flag vessel whose flag state is not a party to either SOLAS 74 or SOLAS 60 meets all applicable structural and safety requirements contained in the published rules of a member of the International Association of Classification Societies (IACS).

(iii) Supplemental certificates. If the applicant does not know at the time of submitting an application which vessels it will be using, it shall submit the applicable certification to the Administrator for each vessel before the cruise on which it will be used.

(8) Statement of Ownership. Sufficient information to demonstrate that the applicant is a U.S. citizen, including:

(i) Name, address, and telephone number of the U.S. citizen responsible for exploration operations to whom notices and orders are to be delivered; and

(ii) A description of the citizen or citizens engaging in such exploration, including

(A) Whether the citizen is a natural person, partnership, corporation, joint venture, or other form of association;

(B) The state of incorporation or state in which the partnership or other business entity is registered;

(C) The name of registered agent or equivalent representative and places of business;

(D) Certification of essential and nonproprietary provisions in articles of incorporation, charter or articles of association; and

(E) The name of each member of the association, partnership, or joint venture, including information about the participation of each partner and joint venturer and/or ownership of stock.

(9) Antitrust information. In order to facilitate antitrust review pursuant to section 103(d) of the Act, the application shall contain:

(i) A copy of each agreement between any parties to any joint venture which is applying for a license, provided that said agreement relates to deep seabed hard mineral resource exploration or mining;

(ii) The identity of any affiliate of any person applying for a license; and

(iii) For each applicant, its affiliate, or parent or subsidiary of an affiliate which is engaged in production in, or the purchase or sale in or to, the United States of copper, nickel, cobalt or manganese minerals or any metals refined from these minerals:

(A) The annual tons and dollar value of any of these minerals and metals so purchased, sold or produced for the two preceding years;

(B) Copies of the annual report, balance sheet and income statement for the two preceding years; and

(C) Copies of each document submitted to the Securities and Exchange Commission.

(10) Fee. A fee payment of $350,000 payable to the National Oceanic and Atmospheric Administration, Department of Commerce, shall accompany each application. If the administrative costs of reviewing and processing the application are significantly less than or in excess of $350,000, the Administrator will refund the difference or require the applicant to pay the additional amount before issuance or transfer of the license or permit. In the case of an application for transfer of a license or permit to, or for a significant change to a license or permit held by, an entity that has previously been found qualified for a permit, the Administrator may reduce the fee in advance by an appropriate amount which reflects costs avoided by reliance on previous findings made in relation to the proposed transferee. Payment of the application fee does not determine priority of right.

(11) Processing outside the United States. Except as provided in this section and § 971.408, the processing of hard minerals recovered pursuant to a permit shall be conducted within the United States, provided that the President or his designee does not determine that this restriction contravenes the overriding national interests of the United States. The application shall contain the information outlined in § 971.408 if applicable.

(e) Certification. To the maximum extent practicable, the Administrator will certify a consolidated application within 100 days of the submission of an application which is in full compliance. If final certification or denial of certification has not occurred within 100 days after submission of the application, the Administrator shall inform the applicant in writing of the then pending unresolved issues, the agency's efforts to resolve them, and an estimate of the time required to do so. Certification will occur after consultation with other departments and agencies pursuant to § 970.211 and determining in writing that:

(1) The applicant is qualified to use this consolidated license and permit application procedure as the applicant has demonstrated that the need for further exploration activities in the proposed license and permit area is minimal or not needed and the applicant possesses the scientific, technical, and financial resources to pursue commercial recovery activities in an expeditious and diligent manner.

(2) The issuance or transfer of the license and the permit would not violate any of the restrictions of 15 CFR 970.103(b).

(3) The size and location of the exploration and commercial recovery area selected by the applicant is a logical mining unit under § 971.501.

(4) The applicant:

(i) Has demonstrated that, upon issuance or transfer of the license and the permit, the applicant will be financially responsible to meet all obligations which may be required to engage in its proposed exploration and commercial recovery activities;

(ii) Has demonstrated that, upon license and permit issuance or transfer, will possess or have access to the technological capability to engage in the proposed exploration and commercial recovery;

(iii) Has satisfactorily fulfilled all past obligations under any license or permit previously issued or transferred to the applicant under the Act;

(iv) Has an exploration plan which meets the requirements of § 971.214(d)(4);

(v) Has a commercial recovery plan which meets the requirements of § 971.214(d)(5); and

(vi) Has paid the application fee specified in § 971.214(c)(10).

(5) Issuing the exploration license and the commercial recovery permit described in the application would not violate any of the restrictions in § 970.103(b).

(f) Denial of Certification. The Administrator may deny certification of an application if it does not meet the requirements of paragraph (e) of this section or the requirements for issuance or transfer under §§ 970.503 through 970.507 or §§ 971.403 through 971.408. The Administrator shall send to the applicant and publish in the Federal Register written notice of a proposed denial of certification.

(1) Such notice shall include:

(i) The basis for the denial;

(ii) If the basis for the proposed denial is because the applicant is not qualified to use consolidated procedures under this subsection:

(A) The reasons for that determination;

(B) The time within which the applicant may submit an amended application for an exploration license under Part 970 without disturbing the applicant's priority of right, which shall be 60 days except as specified by the Administrator for good cause; and

(C) The number of days from receipt of the amended application in which the Administrator will certify or deny certification of the amended application in accordance with 15 CFR 970.400. The Administrator shall endeavor to complete certification of an amended application within 50 days of receipt.

(iii) If the basis for the proposed denial is a deficiency that the applicant can correct:

(A) How to correct the deficiency; and

(B) The time within which the corrected application must be submitted, which will not exceed 180 days except as specified by the Administrator for good cause.

(2) The Administrator shall deny certification:

(i) On the 30th day after the date the notice is sent to the applicant, under paragraph (f) of this section unless before that date the applicant files with the Administrator a written request for an administrative review of the proposed denial; or

(ii) On the last day of the period established under paragraph (f)(1)(ii)(B) of this section during which the applicant may submit an amended application for an exploration license under part 970, if the applicant fails to submit such an amended application before such day and an administrative review requested pursuant to paragraph (f)(2)(i) of this section is not pending;

(iii) On the last day of the period established under paragraph (f)(1)(iii)(B)) of this section during which the applicant may correct a deficiency, if such deficiency has not been corrected before such day and an administrative review requested pursuant to paragraph (f)(2)(i) of this section is not pending.

(3) If a timely request for administrative review of the proposed denial is made by the applicant under paragraph (c)(1) of this section, the Administrator will promptly begin a formal hearing in accordance with subpart I of 15 CFR part 971. If the proposed denial is the result of a correctable deficiency, the administrative review will proceed concurrently with any attempts to correct the deficiency, unless the parties agree otherwise or the administrative law judge orders differently.

(4) The Administrator will send the applicant written notice of any denial of certification including the reasons therefore.

(5) Any final determination granting or denying certification is subject to judicial review as provided in Chapter 7 of Title 5, United States Code.

(g) Effect of this section on pending applications. Within 60 days of this rule becoming final, an applicant who has an application for a license pending before the Administrator may notify the Administrator in writing of its intention to proceed under these consolidated procedures. Such applicants shall submit an amended application that complies with this subpart, and the amended application shall be processed in accordance with this subpart.

7. Amend § 971.802 by revising paragraph (a), removing paragraphs (b) through (e), and redesignating paragraphs (f) and (g) as paragraphs (b) and (c) to read as follows:

§ 971.802 Public disclosure of documents received by NOAA.

(a) Procedures for requesting confidential treatment of information submitted to, reported to, or collected by the Administrator pursuant to this part and 15 CFR part 970 will be in accordance with 15 CFR part 4. Procedures for requesting records and handling requests for records containing information submitted to, reported to, or collected by the Administrator pursuant to this part and 15 CFR part 970 will also be in accordance with 15 CFR part 4.

(b) * * *

(c) * * *

[FR Doc. 2025-12513 Filed 7-3-25; 8:45 am]

BILLING CODE 3510-08-P